DEPARTMENT OF COMMERCE

National Oceanic and Atmospheric Administration

RIN 0648-XF225

Pacific Fishery Management Council (Pacific Council); Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet March 7-13, 2017. The Pacific Council meeting will begin on Wednesday, March 8, 2017 at 9 a.m., reconvening at 8 a.m. each day through Monday, March 13, 2017. All meetings are open to the public, except a closed session will be held from 8 a.m. to 9 a.m., Wednesday, March 8 to address litigation and personnel matters. The Pacific Council will meet as late as necessary each day to complete its scheduled business. To view Instructions for attending the meeting via live stream broadcast see SUPPLEMENTARY INFORMATION.

ADDRESSES: The Pacific Council and its advisory entities will hold the meetings, at the Hilton Vancouver Hotel, 301 West Sixth Street, Vancouver, Washington; telephone 360-993-4500.

Council address: Pacific Fishery Management Council, 7700 NE Ambassador Place, Suite 101, Portland, Oregon 97220.

FOR FURTHER INFORMATION CONTACT: Mr. Chuck Tracy, Executive Director; telephone: 503-820-2280 or 866-806-7204 toll-free; or access the Pacific Council Web site, at http://www.pcouncil.org, for the current meeting location, proposed agenda, and meeting briefing materials.

SUPPLEMENTARY INFORMATION: The March 7-13, 2017 meeting of the Pacific Council will be streamed live on the internet. The broadcasts begin initially at 9 a.m. Pacific Time (PT) Wednesday, March 8, 2017 and continue at 8 a.m. daily through Monday, March 13, 2017. Broadcasts end daily at 6 p.m. PT or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the March Webinar ID, 897-986-459, and your email address. You can attend the Webinar online using a computer, tablet, or smart phone, using the GoToMeeting application. It is recommended that you use a computer headset to listen to the meeting, but you may use your telephone for the audio portion only of the meeting. The audio portion may be attended using a telephone by dialing the toll number 1-562-247-8422 (not a toll-free number), audio access code 862-846-290, and enter the audio pin shown after joining the Webinar.

The following items are on the Pacific Council agenda, but not necessarily in this order. Agenda items noted as “Final Action” refer to actions requiring the Council to transmit a proposed fishery management plan, proposed plan amendment, or proposed regulations to the U.S. Secretary of Commerce, under sections 304 or 305 of the Magnuson-Stevens Fishery Conservation and Management Act. Additional detail on agenda items, Council action, advisory entity meeting times, and meeting rooms are described in Agenda Item A.4, Proposed Council Meeting Agenda, and will be in the advance March 2017 briefing materials and posted on the Pacific Council Web site, at www.pcouncil.org no later than Friday, February 17, 2017.

A. Call to Order

1. Opening Remarks

2. Roll Call

3. Executive Director's Report

4. Approve Agenda

B. Open Comment Period

1. Comments on Non-Agenda Items

C. Administrative Matters

1. National Marine Sanctuaries Coordination Report

2. National Standard 1 Guidelines Carryover Provisions

3. Approval of Council Meeting Record

4. Membership Appointments and Council Operating Procedures

5. Future Council Meeting Agenda and Workload Planning

D. Habitat

1. Current Habitat Issues

E. Salmon Management

1. National Marine Fisheries Service Report

2. Review of 2016 Fisheries and Summary of 2017 Stock Abundance Forecasts

3. Identification of Management Objectives and Preliminary Definition of 2017 Salmon Management Alternatives

4. Council Recommendations for 2017 Management Alternative Analysis

5. Further Council Direction for 2017 Management Alternatives

6. Adoption of 2017 Management Alternatives for Public Review

7. Salmon Hearings Officers

F. Ecosystem-Based Fishery Management

1. Annual State of the California Current Ecosystem Report

2. Sablefish Ecosystem Indicators

3. Review of Fishery Ecosystem Plan Initiatives

G. Enforcement Issues

1. Annual U.S. Coast Guard Fishery Enforcement Report

H. Pacific Halibut Management

1. Report on the International Pacific Halibut Commission (IPHC) Meeting

2. Incidental Catch Recommendations Options for the Salmon Troll and Final Recommendations for Fixed Gear Sablefish Fisheries (Final Action)

I. Groundfish Management

1. Salmon Endangered Species Act (ESA) Consultation Analysis

2. Reports and Recommendations from Groundfish Science Workshops and Methodology Reviews

3. Consideration of Inseason Adjustments, Including Carryover (Final Action)

4. Implementation of the 2017 Pacific Whiting Fishery Under the U.S./Canada Agreement (Final Action)

J. Highly Migratory Species Management

1. National Marine Fisheries Service Report

2. Update on Existing Deep-Set Buoy Gear Exempted Fishing Permits (EFPs)

3. Proposed Deep-Set Buoy Gear Exempted Fishing Permits

4. Amendment 4 to the Fishery Management Plan for West Coast Fisheries for Highly Migratory Species (HMS FMP)

5. Recommendations for International Management Activities

6. Fishery Management Plan Amendment 5: Final Action Authorizing Federal Drift Gillnet Permit (Final Action)

Advisory Body Agendas

Advisory body agendas will include discussions of relevant issues that are on the Pacific Council agenda for this meeting, and may also include issues that may be relevant to future Council meetings. Proposed advisory body agendas for this meeting will be available on the Pacific Council Web site http://www.pcouncil.org/council-operations/council-meetings/current-briefing-book/ no later than Friday, February 17, 2017.

Schedule of Ancillary Meetings

Day 1—Tuesday, March 7, 2017

Ecosystem Advisory Subpanel 8 a.m.

Ecosystem Workgroup 8 a.m.

Habitat Committee 8 a.m.

Scientific and Statistical Committee 8 a.m.

Day 2—Wednesday, March 8, 2017

California State Delegation 7 a.m.

Oregon State Delegation 7 a.m.

Washington State Delegation 7 a.m.

Ecosystem Advisory Subpanel 8 a.m.

Ecosystem Workgroup 8 a.m.

Groundfish Advisory Subpanel 8 a.m.

Groundfish Management Team 8 a.m.

Salmon Advisory Subpanel 8 a.m.

Salmon Technical Team 8 a.m.

Scientific and Statistical Committee 8 a.m.

Enforcement Consultants 3 p.m.

Tribal Policy Group Ad Hoc

Tribal and Washington Technical Group Ad Hoc

Day 3—Thursday, March 9, 2017

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants Ad Hoc

Tribal Policy Group Ad Hoc

Tribal and Washington Technical Group Ad Hoc

Day 4—Friday, March 10, 2017

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants Ad Hoc

Tribal Policy Group Ad Hoc

Tribal and Washington Technical Group Ad Hoc

Day 5—Saturday, March 11, 2017

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants Ad Hoc

Tribal Policy Group Ad Hoc

Tribal and Washington Technical Group Ad Hoc

Day 6—Sunday, March 12, 2017

California State Delegation 7 a.m.

Oregon State Delegation 7 a.m.

Washington State Delegation 7 a.m.

Highly Migratory Species Advisory Subpanel 8 a.m.

Highly Migratory Species Management Team 8 a.m.

Salmon Advisory Subpanel 8 a.m.

Salmon Technical Team 8 a.m.

Enforcement Consultants Ad Hoc

Tribal Policy Group Ad Hoc

Tribal and Washington Technical Group Ad Hoc

Day 7—Monday, March 13, 2017

California State Delegation 7 a.m.

Oregon State Delegation 7 a.m.

Washington State Delegation 7 a.m.

Although non-emergency issues not contained in this agenda may come before this Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt, at 503-820-2280, ext. 411 (see ADDRESSES) at least ten business days prior to the meeting date.

Note: The times and sequence specified in this agenda are subject to change.

Authority: 16 U.S.C. 1801 et seq.

Dated: February 10, 2017.
Tracey L. Thompson,
Acting Director, Office of Sustainable Fisheries, National Marine Fisheries Service.

[FR Doc. 2017-03089 Filed 2-15-17; 8:45 am]

BILLING CODE 3510-22-P